DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual Regulatory Agenda, Spring 2025

AGENCY: Office of the Secretary, USDA.

ACTION: Semiannual Regulatory Agenda.

SUMMARY: This agenda provides summary descriptions of significant and not significant regulations being developed in agencies of the U.S. Department of Agriculture (USDA) in conformance with Executive Orders (E.O.) 12866, “Regulatory Planning and Review,” 13563, “Improving Regulation and Regulatory Review,” 14192, “Unleashing Prosperity Through Deregulation,” and 14219, “Ensuring Lawful Governance and Implementing the President's “Department of Government Efficiency” Deregulatory Initiative.” The agenda also describes regulations affecting small entities as required by section 602 of the Regulatory Flexibility Act, Public Law 96-354. This agenda also identifies regulatory actions that are being reviewed in compliance with section 610(c) of the Regulatory Flexibility Act. We invite public comments on those actions as well as any regulation consistent with Executive Order 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

FOR FURTHER INFORMATION CONTACT: For further information on any specific entry shown in this agenda, please contact the person listed for that action. For general comments or inquiries about the agenda, please contact Mr. Michael Poe, Office of the General Counsel, U.S. Department of Agriculture, Washington, DC 20250, (202) 769-8247.

July 11, 2025.
Michael Poe,
Legislative and Regulatory Staff.

Agricultural Marketing Service—Proposed Rule Stage
Sequence No. | Title | Regulation Identifier No.
1 | Rescinding National Organic Program; Market Development for Mushrooms and Pet Food (AMS-NOP-22-0063) | 0581-AE13
2 | National List of Allowed and Prohibited Substances: Recommendations From the NOSB Fall 2021, Fall 2022 and Fall 2024 Meetings (Crops and Livestock) (AMS-NOP-22-0029) | 0581-AE25
3 | Olive Oil Promotion, Research, and Information Order | 0581-AE33

Agricultural Marketing Service—Long-Term Actions
Sequence No. | Title | Regulation Identifier No.
4 | Inert Ingredients in Pesticides for Organic Production (AMS-NOP-21-0008) | 0581-AE02
5 | National List of Allowed and Prohibited Substances: Recommendations From the NOSB 2021 and 2022 Meetings (Crops—Nitrogen Fertilizers) (AMS-NOP-21-0096) | 0581-AE16

Agricultural Marketing Service—Completed Actions
Sequence No. | Title | Regulation Identifier No.
6 | Natural Grass Sod Promotion, Research, and Information Order (AMS-LP-21-0028) | 0581-AE07
7 | Fees for Official Inspection and Weighing Services Under the United States Grain Standards Act (AMS-FGIS-24-0010) | 0581-AE28
8 | Formula for Adjusting Fees Associated With Official Inspection and Weighing Services Under the United States Grain Standards Act (AMS-FGIS-24-0027) | 0581-AE31
9 | Section 8e Import Inspection Fee Structure (AMS-SC-23-0009) | 0581-AE32

Farm Service Agency—Prerule Stage
Sequence No. | Title | Regulation Identifier No.
10 | Agricultural Foreign Investment Disclosure Act | 0560-AI70

Animal and Plant Health Inspection Service—Final Rule Stage
Sequence No. | Title | Regulation Identifier No.
11 | Revise Conditions for Payment of Indemnity and Compensation for HPAI | 0579-AE79

Animal and Plant Health Inspection Service—Completed Actions
Sequence No. | Title | Regulation Identifier No.
12 | Agricultural Bioterrorism Protection Act of 2002; Biennial Review and Republication of the Select Agent and Toxin List | 0579-AE52

Food and Nutrition Service—Proposed Rule Stage
Sequence No. | Title | Regulation Identifier No.
13 | Strengthening Integrity and Reducing Retailer Fraud in the Supplemental Nutrition Assistance Program (SNAP) | 0584-AE71
14 | Updated Staple Food Stocking Standards for Retailers in the Supplemental Nutrition Assistance Program | 0584-AF12

Food and Nutrition Service—Final Rule Stage
Sequence No. | Title | Regulation Identifier No.
15 | Special Supplemental Nutrition Program for Women, Infants and Children (WIC): WIC Online Ordering and Transactions and Food Delivery Revisions to Meet the Needs of a Modern, Data-Driven Program | 0584-AE85

Office of the Secretary—Long-Term Actions
Sequence No. | Title | Regulation Identifier No.
16 | Technical Guidelines for Agriculture Crops Used as Low-carbon Biofuel Feedstocks | 0503-AA82

Department of Agriculture (USDA): Agricultural Marketing Service (AMS) | Proposed Rule Stage

1. RESCINDING NATIONAL ORGANIC PROGRAM; MARKET DEVELOPMENT FOR MUSHROOMS AND PET FOOD (AMS-NOP-22-0063) [0581-AE13]

Legal Authority: 7 U.S.C. 6501

Abstract: This action would rescind the rule and regulations issued on December 23, 2024, titled, “National Organic Program; Market Development for Mushrooms and Pet Food.” Amendments made to the USDA organic regulations were intended to clarify production and handling requirements for a) organic pet food standards and b) organic mushrooms.

Timetable:

Action | Date | FR Cite
NPRM | 03/11/24 | 89 FR 17322
NPRM Comment Period End | 05/10/24
Final Rule | 12/23/24 | 89 FR 104367
Final Rule Effective | 03/21/25 | 90 FR 9187
Proposed Rule—Recission | 05/12/25 | 90 FR 20133
Proposed Rule—Recission Comment Period End | 06/12/25
Final Rule | 11/00/25

Regulatory Flexibility Analysis Required: Yes

Agency Contact: Jennifer Tucker, Deputy Administrator, USDA National Organic Program, Department of Agriculture, Agricultural Marketing Service, 1400 Independence Avenue SW, Washington, DC 20250

Phone: 202 260-8077

Email: jennifer.tucker@usda.gov

RIN: 0581-AE13

2. NATIONAL LIST OF ALLOWED AND PROHIBITED SUBSTANCES: RECOMMENDATIONS FROM THE NOSB FALL 2021, FALL 2022 AND FALL 2024 MEETINGS (CROPS AND LIVESTOCK) (AMS-NOP-22-0029) [0581-AE25]

Legal Authority: 7 U.S.C. 6501 to 6524

Abstract: The National List identifies the synthetic substances that may be used in organic crop and livestock production as well as the nonsynthetic (natural) substances that may not be used. It also identifies the nonorganic substances that may be used in or on processed organic products. Amendments to the National List included in this proposed rule are based on recommendations from the National Organic Standards Board (NOSB).

Timetable:

Action | Date | FR Cite
NPRM | 12/00/25

Regulatory Flexibility Analysis Required: Yes

Agency Contact: Jennifer Tucker, Deputy Administrator, USDA National Organic Program, Department of Agriculture, Agricultural Marketing Service, 1400 Independence Avenue SW, Washington, DC 20250

Phone: 202 260-8077

Email: jennifer.tucker@usda.gov

RIN: 0581-AE25

3. OLIVE OIL PROMOTION, RESEARCH, AND INFORMATION ORDER [0581-AE33]

Legal Authority: 7 U.S.C. 7411 to 7425

Abstract: The proposed Olive Oil Promotion, Research, and Information Order (Order) would establish an effective and coordinated program of research, promotion, and information for the olive oil industry. Currently, no organization in the olive oil industry has the resources or funds to develop and disseminate the information and marketing promotions needed to increase awareness and to counter inaccurate or misleading information about olive oil among U.S. consumers, health and culinary professionals, and the media. Under the proposed Order, domestic first handlers and importers who handle or import over 5,000 gallons annually of olive oil would pay $0.08 per gallon. It is estimated the program would collect more than $8 million annually in assessments to carry out the program administered by the Cooperative for Olive Oil Promotion.

Timetable:

Action | Date | FR Cite
NPRM | 07/00/25
Final Rule | 03/00/26

Regulatory Flexibility Analysis Required: Yes

Agency Contact: Michelle P. Sharrow, Director, Market Development Division, Specialty Crops Program, Department of Agriculture, Agricultural Marketing Service, 1400 Independence Avenue SW, Suite 1400, Stop 0237, Washington, DC 20250-0237

Phone: 202 720-8085

Email: michelle.sharrow@usda.gov

RIN: 0581-AE33

Department of Agriculture (USDA): Agricultural Marketing Service (AMS) | Long-Term Actions

4. INERT INGREDIENTS IN PESTICIDES FOR ORGANIC PRODUCTION (AMS-NOP-21-0008) [0581-AE02]

Legal Authority: 7 U.S.C. 6501 to 6524

Abstract: Based on comments received from the September 2022 Advance Notice of Proposed Rulemaking and recommendations from the National Organic Standards Board (NOSB) in Fall 2024, this action would propose to replace outdated references in USDA's organic regulations to U.S. Environmental Protection Agency (EPA) policy on inert ingredients in pesticides. Inerts, also identified as “other ingredients” on pesticide labels, are any substances other than the active ingredient that are intentionally added to pesticide products. References to outdated EPA policy appear in the USDA organic regulations in the National List of Allowed and Prohibited Substances (National List) and identify the inert ingredients allowed in pesticides for organic production. This action has been moved to Long-term Actions because it is not an Administration priority.

Timetable:

Action | Date | FR Cite
ANPRM | 09/02/22 | 87 FR 54173
ANPRM Comment Period Extended | 10/11/22 | 87 FR 61268
ANPRM Comment Period End | 11/01/22
ANPRM Comment Period Extended End | 12/31/22
NPRM | To Be Determined

Regulatory Flexibility Analysis Required: Yes

Agency Contact: Jennifer Tucker

Phone: 202 260-8077

Email: jennifer.tucker@usda.gov

RIN: 0581-AE02

5. NATIONAL LIST OF ALLOWED AND PROHIBITED SUBSTANCES: RECOMMENDATIONS FROM THE NOSB 2021 AND 2022 MEETINGS (CROPS—NITROGEN FERTILIZERS) (AMS-NOP-21-0096) [0581-AE16]

Legal Authority: 7 U.S.C. 6501 to 6524

Abstract: The National List identifies the synthetic substances that may be used in organic crop and livestock production as well as the nonsynthetic (natural) substances that may not be used. It also identifies the nonorganic substances that may be used in or on processed organic products. Amendments to the National List included in this proposed rule are based on recommendations from the National Organic Standards Board (NOSB). The proposed rule seeks comment on the status of the following substances used in organic crop production: sodium nitrate, ammonia, and nitrogen fertilizers that have carbon-to-nitrogen ratio lower than three-to-one (3:1).

Timetable:

Action | Date | FR Cite
NPRM | To Be Determined

Regulatory Flexibility Analysis Required: Yes

Agency Contact: Erin Healy

Phone: 202 617-4942

Email: erin.healy@usda.gov

RIN: 0581-AE16

Department of Agriculture (USDA): Agricultural Marketing Service (AMS) | Completed Actions

6. NATURAL GRASS SOD PROMOTION, RESEARCH, AND INFORMATION ORDER (AMS-LP-21-0028) [0581-AE07]

Legal Authority: 7 U.S.C. 7411 to 7425

Abstract: This action is being terminated because the Order failed in referendum.

Completed:

Action | Date | FR Cite
Proposed Rule 2: Establish Order | 12/10/24 | 89 FR 99149
Final Rule—Referendum | 12/10/24 | 89 FR 99059
Direct Final Rule — Rescinding Referendum Procedures | 05/29/25 | 90 FR 22625
Notice of Withdrawal of Proposed Rulemaking and Termination of Rulemaking Proceeding | 05/29/25 | 90 FR 22671

Regulatory Flexibility Analysis Required: Yes

Agency Contact: Maribel Reyna

Phone: 202 302-1139

Email: maribel.reyna@ams.usda.gov

RIN: 0581-AE07

7. FEES FOR OFFICIAL INSPECTION AND WEIGHING SERVICES UNDER THE UNITED STATES GRAIN STANDARDS ACT (AMS-FGIS-24-0010) [0581-AE28]

Legal Authority: 7 U.S.C. 71 to 87k

Abstract: This action revised FY2024 fees for grain inspection and weighing services provided by the Agricultural Marketing Service's (AMS) Federal Grain Inspection Service (FGIS). This action also implemented a revised formula to adjust inspection and weighing fees, annually, which will limit large swings in fees and ensure a sufficient reserve balance going forward. The new formula is similar to the standardized formula used in other user-fee AMS grading programs. The formula specified rates be based on the actual cost and workload data of the previous fiscal year(s) or accounting period(s) used by the program. Based on the analysis and using the formula, FGIS determined the fees necessary to sustain program services. This increases predictability and provides information for planning purposes for the grain industry.

Completed:

Action | Date | FR Cite
Final Rule | 12/27/24 | 89 FR 105381

Regulatory Flexibility Analysis Required: Yes

Agency Contact: Jennifer Porter

Phone: 202 690-1300

Email: jennifer.porter@usda.gov

RIN: 0581-AE28

8. FORMULA FOR ADJUSTING FEES ASSOCIATED WITH OFFICIAL INSPECTION AND WEIGHING SERVICES UNDER THE UNITED STATES GRAIN STANDARDS ACT (AMS-FGIS-24-0027) [0581-AE31]

Legal Authority: 7 U.S.C. 71 to 87k

Abstract: This action established a standardized formula to annually adjust fees for grain inspection and weighing services provided by the Agricultural Marketing Service's (AMS) Federal Grain Inspection Service (FGIS). The use of a formula will limit large swings in fees and ensure a sufficient reserve balance going forward. The new formula is similar to the standardized formula used in other user-fee AMS grading programs. The formula specifies that rates be based on the actual cost and workload data of the previous fiscal year(s) or accounting period(s) used by the program. Based on the analysis and using the formula, FGIS will determine the fees necessary to sustain program services. This will increase predictability and provide information for planning purposes for the grain industry.

Completed:

Action | Date | FR Cite
NPRM | 10/08/24 | 89 FR 81396
NPRM; Correction | 10/17/24 | 89 FR 83437
Final Rule | 01/06/25 | 90 FR 531
Final Action Effective | 02/05/25

Regulatory Flexibility Analysis Required: Yes

Agency Contact: Jennifer Porter

Phone: 202 690-1300

Email: jennifer.porter@usda.gov

RIN: 0581-AE31

9. • SECTION 8E IMPORT INSPECTION FEE STRUCTURE (AMS-SC-23-0009) [0581-AE32]

Legal Authority: 7 U.S.C. 1621 to 1627

Abstract: The Agricultural Marketing Service (AMS) revised the regulations governing the inspection and certification for fresh fruits, vegetables, and other products by amending certain fees charged for Section 8e import inspections from a per-carlot basis to a per-pound basis, reducing the fee for each additional sublot by 50 percent, and establishing a new fee calculation for lots less than a carlot. These revisions were necessary to recover, as nearly as practicable, the costs of performing inspection services on imported commodities in accordance with the Agricultural Marketing Agreement Act of 1937.

Timetable:

Action | Date | FR Cite
NPRM | 06/20/24 | 89 FR 51850
NPRM Comment Period End | 08/19/24
Final Rule | 12/30/24 | 89 FR 106231
Delay of Final Rule Effective Date (Until 3/20/2025) | 01/29/25 | 90 FR 8367
Final Rule Effective | 03/20/25

Regulatory Flexibility Analysis Required: Yes

Agency Contact: Heather Pichelman, Associate Deputy Administrator, Department of Agriculture, Agricultural Marketing Service, 1400 Independence Avenue, Washington, DC 20250

Phone: 202 720-9915

RIN: 0581-AE32

BILLING CODE 3410-02-P

Department of Agriculture (USDA): Farm Service Agency (FSA) | Prerule Stage

10. • AGRICULTURAL FOREIGN INVESTMENT DISCLOSURE ACT [0560-AI70]

Legal Authority: 7 U.S.C. 3501-3508

Abstract: The Farm Service Agency (FSA) is proposing updates to the regulation for the Agricultural Foreign Investment Disclosure Act (AFIDA). FSA is addressing numerous aspects of 7 CFR part 781 to propose much needed updates to an old regulation.

Timetable:

Action | Date | FR Cite
ANPRM | 07/00/25

Regulatory Flexibility Analysis Required: Yes

Agency Contact: Sherrie Grimm, Acting Branch Chief, Regulatory Analysis and PRA Requirements Branch, Department of Agriculture, Farm Production and Conservation Business Center, 1400 Independence Avenue SW, Washington, DC 20250

Phone: 202 205-5851

Email: sherrie.grimm@usda.gov

RIN: 0560-AI70

BILLING CODE 3410-05-P

Department of Agriculture (USDA): Animal and Plant Health Inspection Service (APHIS) | Final Rule Stage

11. REVISE CONDITIONS FOR PAYMENT OF INDEMNITY AND COMPENSATION FOR HPAI [0579-AE79]

Legal Authority: 7 U.S.C. 8301, et seq.

Abstract: The Animal and Plant Health Inspection Service (APHIS) amended the regulations pertaining to conditions for payment of indemnity for highly pathogenic avian influenza (HPAI) to require commercial poultry premises to successfully pass a biosecurity audit for HPAI-infected premises intending to restock and for buffer zone (uninfected) premises that wish to request that poultry be moved onto the premises.

Timetable:

Action | Date | FR Cite
Interim Final Rule | 12/31/24 | 89 FR 106981
Interim Final Rule Effective | 12/31/24
Interim Final Rule Comment Period Reopened | 03/14/25 | 90 FR 12105
Interim Final Rule Comment Period End | 04/14/25
Analyzing comments on the IRM | 07/00/25

Regulatory Flexibility Analysis Required: Yes

Agency Contact: Leonardo Sevilla, DVM, Veterinary Medical Officer, Poultry Health Team, Strategy & Policy, VS, Department of Agriculture, Animal and Plant Health Inspection Service, 920 Main Campus Drive, Raleigh, NC 27606

Phone: 984 766-1528

Email: leonardo.sevilla@usda.gov

RIN: 0579-AE79

Department of Agriculture (USDA): Animal and Plant Health Inspection Service (APHIS) | Completed Actions

12. AGRICULTURAL BIOTERRORISM PROTECTION ACT OF 2002; BIENNIAL REVIEW AND REPUBLICATION OF THE SELECT AGENT AND TOXIN LIST [0579-AE52]

Legal Authority: 7 U.S.C. 8401

Abstract: In accordance with the Agricultural Bioterrorism Protection Act of 2002, we are amending and republishing the list of select agents and toxins that have the potential to pose a severe threat to animal or plant health, or to animal or plant products. The Act requires the biennial review and republication of the list of select agents and toxins and the revision of the list as necessary. This action implements findings of the biennial review of the lists.

Completed:

Action | Date | FR Cite
Final Rule | 12/17/24 | 89 FR 101837
Final Rule Effective | 01/16/25

Regulatory Flexibility Analysis Required: Yes

Agency Contact: Jack Taniewski

Phone: 301 851-3352

RIN: 0579-AE52

BILLING CODE 3410-34-P

Department of Agriculture (USDA): Food and Nutrition Service (FNS) | Proposed Rule Stage

13. STRENGTHENING INTEGRITY AND REDUCING RETAILER FRAUD IN THE SUPPLEMENTAL NUTRITION ASSISTANCE PROGRAM (SNAP) [0584-AE71]

Legal Authority: Pub. L. 113-79; Pub. L. 115-334

Abstract: This proposed rule would implement statutory provisions of the Food, Conservation, and Energy Act of 2008 (the 2008 Farm Bill), the Agriculture Improvement Act of 2018 (the 2018 Farm Bill), and other language intended to deter retailer fraud, abuse, and non-compliance in the Supplemental Nutrition Assistance Program (SNAP). Stakeholders are SNAP retailers and communities in which SNAP retailers provide SNAP participants access to food, other Programs that require SNAP authorization or where reciprocal actions impact participation, and SNAP participants.

Timetable:

Action | Date | FR Cite
NPRM | 02/00/26

Regulatory Flexibility Analysis Required: Yes

Agency Contact: Lynn Gilbert, Department of Agriculture, Food and Nutrition Service, 1320 Braddock Place, Alexandria, VA 22314

Phone: 703 305-1615

Email: lynn.gilbert@usda.gov

Richard Lucas, Department of Agriculture, Food and Nutrition Service, 1320 Braddock Place, Room 555, Alexandria, VA 22314

Phone: 703 457-6797

Email: richard.lucas@usda.gov

RIN: 0584-AE71

14. • UPDATED STAPLE FOOD STOCKING STANDARDS FOR RETAILERS IN THE SUPPLEMENTAL NUTRITION ASSISTANCE PROGRAM [0584-AF12]

Legal Authority: Pub. L. 113-79; 7 U.S.C. 2011 to 2036

Abstract: The Agricultural Act of 2014 amended the Food and Nutrition Act of 2008 to increase the requirement that certain Supplemental Nutrition Assistance Program (SNAP) authorized retail food stores have available on a continuous basis at least three varieties of items in each of food staple food categories, to a mandatory minimum of seven varieties. This proposed rule would provide some retailers participating in SNAP as authorized food stores with more flexibility in meeting the enhanced SNAP eligibility requirements while also simplifying the criteria.

Timetable:

Action | Date | FR Cite
NPRM | 02/00/26

Regulatory Flexibility Analysis Required: Yes

Agency Contact: Lynn Gilbert, Department of Agriculture, Food and Nutrition Service, 1320 Braddock Place, Alexandria, VA 22314

Phone: 703 305-1615

Email: lynn.gilbert@usda.gov

Richard Lucas, Department of Agriculture, Food and Nutrition Service, 1320 Braddock Place, Room 555, Alexandria, VA 22314

Phone: 703 457-6797

Email: richard.lucas@usda.gov

RIN: 0584-AF12

Department of Agriculture (USDA): Food and Nutrition Service (FNS) | Final Rule Stage

15. SPECIAL SUPPLEMENTAL NUTRITION PROGRAM FOR WOMEN, INFANTS AND CHILDREN (WIC): WIC ONLINE ORDERING AND TRANSACTIONS AND FOOD DELIVERY REVISIONS TO MEET THE NEEDS OF A MODERN, DATA-DRIVEN PROGRAM [0584-AE85]

Legal Authority: Pub. L. 111-296

Abstract: This “final rule with comment” addresses key regulatory barriers to online ordering in the WIC Program by making changes to the provisions that prevent online transactions and types of online capable stores from participating in the Program. This rule will also allow FNS to modernize WIC vendor regulations that do not reflect current technology and facilitate the Program's transition to Electronic Benefit Transfer (EBT). The final rule is responsive to prior proposed rule public comments from WIC state, public and private industry stakeholders to ensure that the final rule reflects their substantive feedback as online shopping and FNS' modernization efforts are made permanent.

Timetable:

Action | Date | FR Cite
NPRM | 02/23/23 | 88 FR 11516
NPRM Comment Period End | 05/24/23
Final Action | 02/00/26

Regulatory Flexibility Analysis Required: Yes

Agency Contact: Lynn Gilbert, Department of Agriculture, Food and Nutrition Service, 1320 Braddock Place, Alexandria, VA 22314

Phone: 703 305-1615

Email: lynn.gilbert@usda.gov

Richard Lucas, Department of Agriculture, Food and Nutrition Service, 1320 Braddock Place, Room 555, Alexandria, VA 22314

Phone: 703 457-6797

Email: richard.lucas@usda.gov

RIN: 0584-AE85

BILLING CODE 3410-30-P

Department of Agriculture (USDA): Office of the Secretary (AgSEC) | Long-Term Actions

16. TECHNICAL GUIDELINES FOR AGRICULTURE CROPS USED AS LOW-CARBON BIOFUEL FEEDSTOCKS [0503-AA82]

Legal Authority: 16 U.S.C. 3845 and 3846

Abstract: USDA previously issued an Interim Final Rule (IFR) before the start of this Administration to establish new regulations that will set requirements for the quantification, reporting, and verification of low-carbon, domestic agricultural biofuel feedstocks. The rule may create additional opportunities to produce low-carbon agricultural feedstocks sourcing biofuels, and may provide added-value market opportunities for farmers producing biofuel feedstock crops. The next steps for this action are currently undetermined.

Timetable:

Action | Date | FR Cite
RFI | 06/27/24 | 89 FR 53585
RFI Comment Period End | 07/25/24
Interim Final Rule | 01/17/25 | 90 FR 5497
Interim Final Rule Effective | 01/17/25
Interim Final Rule Comment Period End | 03/18/25
To Be Determined | To Be Determined

Regulatory Flexibility Analysis Required: Yes

Agency Contact: William Hohenstein

Phone: 202 720-0450

RIN: 0503-AA82

[FR Doc. Filed 08-18-25; 0:00 a.m.]

BILLING CODE 3410-90-P

[FR Doc. 2025-18324 Filed 9-19-25; 8:45 am]

BILLING CODE 3410-90-P